DEPARTMENT OF TRANSPORTATION

Federal Aviation Administration

14 CFR Part 35

[Docket No. FAA-2010-0940-0001; Amdt. No. 35-9A]

RIN 2120-AJ88

Critical Parts for Airplane Propellers; Correction

AGENCY: Federal Aviation Administration (FAA), DOT.

ACTION: Correcting amendment.

SUMMARY: The FAA is correcting a final rule published on January 18, 2013 (78 FR 4038). In that rule, the FAA established airworthiness standards for airplane propellers. That action required a safety analysis to identify a propeller critical part. Manufacturers would identify propeller critical parts, and establish engineering, manufacturing, and maintenance processes for propeller critical parts. An unintentional error was introduced in § 35.15 when we revised paragraph (d). We did not intend to revise paragraph (d). This correction will add paragraph (d) to the end of paragraph (c), and restore the former paragraph (d).

DATES: Effective July 26, 2013.

FOR FURTHER INFORMATION CONTACT: For technical questions concerning this action, contact Jay Turnberg, Engine and Propeller Directorate Standards Staff, ANE-111, Federal Aviation Administration, 12 New England Executive Park, Burlington, Massachusetts, 01803-5299; telephone (781) 238-7116; facsimile (781) 238-7199, email: jay.turnberg@faa.gov. For legal questions concerning this action, contact Vincent Bennett, FAA Office of the Regional Counsel, ANE-7, Federal Aviation Administration, 12 New England Executive Park, Burlington, Massachusetts, 01803-5299; telephone (781) 238-7044; facsimile (781) 238-7055, email: vincent.bennett@faa.gov.

SUPPLEMENTARY INFORMATION:

Background

On January 18, 2013, the FAA published a final rule titled, “Critical Parts for Airplane Propellers” (78 FR 4038).

In that final rule the FAA revised the regulation to require a safety analysis to identify a propeller critical part and require that critical parts meet the prescribed integrity specifications of § 35.16, Propeller critical parts. However, in amending § 35.15 we inadvertently revised paragraph (d), when we added the new requirements. This was not our intention. This correction will add paragraph (d) to the end of paragraph (c), and restore the former paragraph (d).

List of Subjects in 14 CFR Part 35

Air transportation, Aircraft, Aviation safety, Safety.

The Correcting Amendment

In consideration of the foregoing, the Federal Aviation Administration amends chapter I of title 14, Code of Federal Regulations as follows:

PART 35—AIRWORTHINESS STANDARDS: PROPELLERS

1. The authority citation for part 35 continues to read as follows:

Authority: 49 U.S.C. 106(g), 40113, 44701-44702, 44704.

2. Amend § 35.15 by revising paragraphs (c) and (d) to read as follows:

§ 35.15 Safety analysis.

* * * * *

(c) The primary failures of certain single propeller elements (for example, blades) cannot be sensibly estimated in numerical terms. If the failure of such elements is likely to result in hazardous propeller effects, those elements must be identified as propeller critical parts. For propeller critical parts, applicants must meet the prescribed integrity specifications of § 35.16. These instances must be stated in the safety analysis.

(d) If reliance is placed on a safety system to prevent a failure progressing to hazardous propeller effects, the possibility of a safety system failure in combination with a basic propeller failure must be included in the analysis. Such a safety system may include safety devices, instrumentation, early warning devices, maintenance checks, and other similar equipment or procedures. If items of the safety system are outside the control of the propeller manufacturer, the assumptions of the safety analysis with respect to the reliability of these parts must be clearly stated in the analysis and identified in the propeller installation and operation instructions required under § 35.3.

* * * * *

Issued under authority provided by 49 U.S.C. 106(f), 44701(a), and 44703 in Washington, DC, on July 19, 2013.

Lirio Liu,
Director, Office of Rulemaking.

[FR Doc. 2013-17931 Filed 7-25-13; 8:45 am]

BILLING CODE 4910-13-P